ENVIRONMENTAL PROTECTION AGENCY

[EPA-HQ-OPPT-2014-0736; FRL-9941-60-OEI]

Information Collection Request Submitted to OMB for Review and Approval; Comment Request; EPA's Safer Choice Partner of the Year Awards Program

AGENCY: Environmental Protection Agency (EPA).

ACTION: Notice.

SUMMARY: EPA has submitted the following information collection request (ICR) to the Office of Management and Budget (OMB) for review and approval in accordance with the Paperwork Reduction Act (PRA): “EPA's Safer Choice Partner of the Year Awards Program” and identified by EPA ICR No. 2450.02 and OMB Control No. 2070-0184. The ICR, which is available in the docket along with other related materials, provides a detailed explanation of the collection activities and the burden estimate that is only briefly summarized in this document. EPA has addressed the comments received in response to the previously provided public review opportunity issued in the Federal Register on October 2, 2015 (80 FR 59773). With this submission, EPA is providing an additional 30 days for public review.

DATES: Comments must be received on or before February 26, 2016.

ADDRESSES: Submit your comments, identified by docket identification (ID) number EPA-HQ-OPPT-2014-0736, to both EPA and OMB as follows:

• To EPA online using http://www.regulations.gov (our preferred method) or by mail to: EPA Docket Center, Environmental Protection Agency, Mail Code 28221T, 1200 Pennsylvania Ave. NW., Washington, DC 20460.

• To OMB via email to oira_submission@omb.eop.gov. Address comments to OMB Desk Officer for EPA.

EPA's policy is that all comments received will be included in the docket without change, including any personal information provided, unless the comment includes profanity, threats, information claimed to be Confidential Business Information (CBI), or other information whose disclosure is restricted by statute. Do not submit electronically any information you consider to be CBI or other information whose disclosure is restricted by statute.

FOR FURTHER INFORMATION CONTACT: Colby Lintner, Environmental Assistance Division (7408M), Office of Pollution Prevention and Toxics, Environmental Protection Agency, 1200 Pennsylvania Ave. NW., Washington, DC 20460-0001; telephone number: (202) 564-1404; email address: TSCA-Hotline@epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW., Washington, DC. The telephone number for the Docket Center is (202) 566-1744. For additional information about EPA's public docket, visit http://www.epa.gov/dockets.

ICR status: This ICR is currently scheduled to expire on January 31, 2016. Under OMB regulations, the Agency may continue to conduct or sponsor the collection of information while this submission is pending at OMB. Under PRA, 44 U.S.C. 3501 et seq., an agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: EPA developed the Partner of the Year Awards to recognize Safer Choice stakeholders who have furthered the goals of Safer Choice through active and exemplary participation in and promotion of the Safer Choice program. Making the mission of the Safer Choice program known to the widest possible audience, through its safer product label and in other forms of communication, is critical to fully realizing the program's goals of protecting human health and the environment, promoting a sustainable economy, and creating green jobs, especially in the small business sector.

The Partner of the Year Awards will be an annual event, with recognition for Safer Choice stakeholder organizations from five broad categories: (1) Formulators/product manufacturers (of both consumer and institutional/industrial (I/I) products), (2) purchasers and distributors, (3) retailers, (4) supporters (e.g., non-governmental organizations, including environmental and health advocates, trade associations, academia, sports teams, and others), and (5) innovators (e.g., chemical manufacturers, technology developers, and others). Within these categories and based on the criteria, EPA may elect to give additional awards in the subcategories of “small business” and “sustained excellence.” This information collection activity addresses the reporting burden associated with completing the application to EPA for recognition in the Partner of the Year Awards program.

Responses to this information collection are voluntary. Respondents may claim all or part of a response confidential. EPA will disclose information that is covered by a claim of confidentiality only to the extent permitted by, and in accordance with, the procedures in TSCA section 14 and 40 CFR part 2.

Respondents/Affected Entities: Entities potentially affected by this ICR are establishments engaged in the production, use, and/or advancement of safer chemicals, that have furthered the goals of EPA's Safer Chemical program through active and exemplary participation in and promotion of the program, and that wish to receive recognition for their achievements.

Respondent's obligation to respond: Voluntary.

Estimated total number of potential respondents: 50.

Frequency of response: Annual.

Estimated total burden: 750 hours (per year). Burden is defined at 5 CFR 1320.3(b).

Estimated total costs: $45,486 (per year), includes no annualized capital investment or maintenance and operational costs.

Changes in the estimates: There is a decrease of 900 hours in the total estimated respondent burden compared with that identified in the ICR currently approved by OMB.

This decrease reflects the experience of EPA's Safer Choice program since OMB first approved this information collection. The Safer Choice program conducted its first Partner of the Year Awards in 2015, at which time EPA had received applications from 35 respondents. Based upon revised estimates, EPA has reduced the estimated number of respondents from 110 to 50, with a corresponding decrease in the associated burden. This change is an adjustment.

Courtney Kerwin,
Acting Director, Collection Strategies Division.

[FR Doc. 2016-01523 Filed 1-26-16; 8:45 am]

BILLING CODE 6560-50-P